DEPARTMENT OF THE INTERIOR

National Park Service

[NPS-AKR-KATM-11807: PX.XAKAKRO0303.00.1]

Final Environmental Impact Statement for Brooks River Visitor Access for Katmai National Park and Preserve

AGENCY: National Park Service, Interior.

ACTION: Notice of Availability of the Final Environmental Impact Statement for the Brooks River Visitor Access for Katmai National Park and Preserve.

SUMMARY: Pursuant to the National Environmental Policy Act (NEPA) of 1969, 42 U.S.C. 4332(2)(C), the National Park Service (NPS) announces the availability of the Final Environmental Impact Statement for Brooks River Visitor Access (Plan/FEIS), for Katmai National Park and Preserve, Alaska. The Plan/FEIS evaluates the environmental impacts of four action alternatives that include bridge and boardwalk systems to replace the existing Brooks River floating bridge and sites to relocate the existing Naknek Lake barge landing area at the mouth of the Brooks River. A no-action alternative is also evaluated. If implemented this EIS would amend the access provisions of the 1996 Brooks River Area Final Development Concept Plan and Environmental Impact Statement.

ADDRESSES: The Plan/FEIS is available in electronic format online at the NPS Planning, Environment and Public Comment (PEPC) Web site [http://parkplanning.nps.gov/BrooksVisitorAccess]. Hard copies and compact discs of the Plan/FEIS are available on request by contacting: Brooke Merrell, National Park Service, 240 West 5th Avenue Anchorage, AK 99501. Telephone: 907-644-3397. Email: brooke_merrell@nps.gov.

FOR FURTHER INFORMATION CONTACT: Brooke Merrell, National Park Service, 240 West 5th Avenue, Anchorage, Alaska 99501. Telephone: 907-644-3397. Email: brooke_merrell@nps.gov.

SUPPLEMENTARY INFORMATION: The Brooks River Visitor Access Draft Environmental Impact Statement was released to the public on June 22, 2012. The Notice of Availability for the draft environmental impact statement was published in the Federal Register on that date (77 FR 37707). The public comment period ran from June 22 through August 20, 2012. Three public meetings were held in Homer, Anchorage, and King Salmon, Alaska. Sixteen individuals attended the public meetings.

During the 60-day comment period, comments were received via hard copy mail, email, and through the NPS PEPC site. In total, 22 comment letters were received via these means. The 22 comment letters included two environmental organizations (National Parks Conservation Association and Sierra Club), state and Federal Agencies (State of Alaska, Environmental Protection Agency, and National Marine Fisheries Service), the Bristol Bay Native Corporation, Katmailand Inc., and 14 individuals. The FEIS presents responses to substantive comments in Chapter 5.

Five alternatives for access at the Brooks River area of Katmai National Park are presented in the EIS. Alternative 1 (the no-action alternative) presents a continuation of current management direction and is included as a baseline for comparing the consequences of implementing each alternative. Alternatives 2-5 present different ways of providing access to and within the Brooks River area.

Alternative 1 (No Action): This alternative represents a continuation of the existing situation. The no-action alternative would maintain seasonal use of the floating bridge, which is 8 feet wide and about 320 feet long. The bridge would be used by both pedestrians and light-utility vehicles. The NPS would continue to install and remove the bridge each spring and fall. The existing barge landing and associated road would remain on the south side of the river.

Alternative 2: This alternative evaluates construction of a new bridge and boardwalk system across the Brooks. This alternative calls for a three-span bridge about 360 feet in length. This bridge would have an 8-foot-wide wooden bridge deck with a steel truss on each side, and span 120 feet between steel pile foundations. The bridge and boardwalk system would have a total estimated length of 1,600 feet. A barge landing would be located on the shore of Naknek Lake about 2,000 feet south of the existing barge landing. A new access road, approximately 1,500 feet long and 14 feet wide, would be constructed to intersect the Valley Road and extend to the new barge landing site on Naknek Lake.

Alternative 3: This alternative evaluates construction of a new bridge and boardwalk system across the Brooks River. The bridge would be a pre-engineered bridge approximately 415 feet in length. The bridge and boardwalk system would have a total estimated length of 850 feet. A new barge landing site would be located approximately 200 feet south of the mouth of the Brooks River. A new road segment (about 100 ft. long) would be constructed from the existing access road and extend to a new Naknek Lake barge landing site.

Alternative 4 (NPS Preferred Alternative): This alternative evaluates construction of a new wooden bridge and boardwalk system across the Brooks River. The bridge would be approximately 350 feet in length with a minimum distance of 24 feet between piles. The bridge and boardwalk system would have a total estimated length of 1,550 feet. A barge landing would be located on the shore of Naknek Lake about 2,000 feet south of the existing barge landing. A new access road, approximately 1,500 feet long and 14 feet wide, would intersect the Valley Road and extend to the new barge landing site on Naknek Lake. Alternative 4 is the environmentally preferred alternative.

Alternative 5: This alternative evaluates construction of a new wooden bridge and boardwalk system across the Brooks River. The bridge would be approximately 350 feet in length with a minimum distance of 24 feet between piles and would follow the alignment of the floating bridge. The bridge and boardwalk system would have a total estimated length of 1,100 feet. A barge landing would be located on the shore of Naknek Lake about 2,000 feet south of the existing barge landing. A new access road, approximately 1,500 feet long and 14 feet wide, would intersect the Valley Road and extend to the new barge landing site on Naknek Lake.

Dated: January 8, 2013.
Sue E. Masica,
Regional Director, Alaska.

[FR Doc. 2013-02616 Filed 2-5-13; 8:45 am]

BILLING CODE 4312-EF-P